DEPARTMENT OF COMMERCE

Foreign-Trade Zones Board

[S-120-2021]

Foreign-Trade Zone 98-Birmingham, Alabama; Application for Subzone; Mercedes Benz USA, LLC, Vance, Alabama

An application has been submitted to the Foreign-Trade Zones (FTZ) Board by the City of Birmingham, Alabama, grantee of FTZ 98, requesting subzone status for the facility of Mercedes Benz USA, LLC (MBUSA), located in Vance, Alabama. The application was submitted pursuant to the provisions of the Foreign-Trade Zones Act, as amended (19 U.S.C. 81a-81u), and the regulations of the FTZ Board (15 CFR part 400). It was formally docketed on August 10, 2021.

The proposed subzone (42.23 acres) is located at 11146 Will Walker Road, Vance, Alabama. No authorization for production activity has been requested at this time. The proposed subzone would be subject to the existing activation limit of FTZ 98.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is September 27, 2021. Rebuttal comments in response to material submitted during the foregoing period may be submitted during the subsequent 15-day period to October 12, 2021.

A copy of the application will be available for public inspection in the “Reading Room” section of the FTZ Board's website, which is accessible via www.trade.gov/ftz.

For further information, contact Christopher Kemp at Christopher.Kemp@trade.gov.

Dated: August 10, 2021.
Andrew McGilvray,
Executive Secretary.

[FR Doc. 2021-17467 Filed 8-13-21; 8:45 am]

BILLING CODE 3510-DS-P